DEPARTMENT OF ENERGY

Federal Energy Regulatory Commission

Notice of Commission Staff Attendance

The Federal Energy Regulatory Commission hereby gives notice that members of the Commission's staff will attend the following meeting related to the Midcontinent Independent System Operator, Inc. (MISO)—PJM Interconnection, L.L.C. (PJM) Joint and Common Market Initiative (Docket No. AD14-3-000): MISO/PJM Joint Stakeholder Meeting—August 20, 2015.

The above-referenced meeting will be held at: PJM Conference & Training Center, 2750 Monroe Boulevard, Audubon, PA 19403.

The above-referenced meeting is open to the public.

Further information may be found at www.pjm.com.

The discussions at the meeting described above may address matters at issue in the following proceedings:

Docket No. EL13-88, Northern Indiana Public Service Company v. Midcontinent Independent System Operator, Inc. and PJM Interconnection, L.L.C.

Docket No. EL11-34, Midcontinent Independent System Operator, Inc.

Docket No. EL14-21, Southwest Power Pool, Inc. v. Midcontinent Independent System Operator, Inc.

Docket No. EL14-30, Midcontinent Independent System Operator, Inc. v. Southwest Power Pool, Inc.

Docket No. ER11-1844, Midwest Independent Transmission System Operator, Inc.

Docket No. ER13-1864, Southwest Power Pool, Inc.

Docket No. ER10-1791, Midwest Independent Transmission System Operator, Inc.

Docket Nos. ER13-1923, ER13-1938, ER13-1943, ER13-1945, Midcontinent Independent System Operator, Inc.

Docket Nos. ER13-1924, ER13-1926, ER13-1927, ER13-1936, ER13-1944, ER13-1947, PJM Interconnection, L.L.C.

Docket Nos. ER13-1937, ER13-1939, Southwest Power Pool, Inc.

Docket No. ER14-1174, Southwest Power Pool, Inc.

Docket No. ER14-1736, Midcontinent Independent System Operator, Inc.

Docket No. ER14-2022, Midcontinent Independent System Operator, Inc.

Docket No. ER14-2445, Midcontinent Independent System Operator, Inc.

Docket No. ER15-1874, PJM Interconnection, L.L.C.

Docket No. ER15-1890, Midcontinent Independent System Operator, Inc.

For more information, contact Valerie Teeter, Office of Energy Policy and Innovation, Federal Energy Regulatory Commission at (202) 502-8538 or Valerie.Teeter@ferc.gov.

Dated: August 13, 2015.
Kimberly D. Bose,
Secretary.

[FR Doc. 2015-20463 Filed 8-19-15; 8:45 am]

BILLING CODE 6717-01-P